DEPARTMENT OF ENERGY

National Coal Council; Meeting

AGENCY: Office of Fossil Energy, Department of Energy.

ACTION: Notice of open meeting.

SUMMARY: This notice announces a virtual meeting of the National Coal Council (NCC) via WebEx. The Federal Advisory Committee Act requires that public notice of this meeting be announced in the Federal Register.

DATES: Tuesday, April 27, 2021; 11:00 a.m. to 1:15 p.m. (EST).

ADDRESSES: This will be virtual meeting conducted through WebEx. If you wish to join the meeting you must register by close of business (5:00 p.m. EST) on Wednesday, April 21, 2021, by using the form available at the following URL: https://www.ncc.energy.gov/ncc/future-meetings. The email address you provide in the on-line registration form will be used to forward instructions on how to join the meeting using WebEx. WebEx requires a computer, web browser and an installed application (free). Instructions for joining the webcast will be sent to you two days in advance of the meeting.

FOR FURTHER INFORMATION CONTACT: Thomas Sarkus, U.S. Department of Energy, National Energy Technology Laboratory, Mail Stop 922-204, P.O. Box 10940, Pittsburgh, PA 15236-0940; Telephone (412) 386-5981; Email: thomas.sarkus@netl.doe.gov.

SUPPLEMENTARY INFORMATION:

Purpose of the Council: The National Coal Council (the Council) provides advice and recommendations to the Secretary of Energy on general policy matters relating to coal and the coal industry.

Purpose of Meeting: The National Coal Council will hold a virtual meeting via WebEx on April 27, 2021; 11:00 a.m. to 1:15 p.m. (EST).

Tentative Agenda:

Tuesday, April 27, 2021; 11:00 a.m.-1:15 p.m. (EST).

1. Call to order and opening remarks by Thomas Sarkus, NCC Deputy Designated Federal Officer, U.S. Department of Energy

2. Keynote remarks by Dr. Jennifer Wilcox, Principal Deputy Assistant Secretary (Acting Assistant Secretary) for Fossil Energy, U.S. Department of Energy

3. Keynote remarks by Mike Nasi, Equity Partner, Jackson Walker LLP on the Texas polar vortex

4. Presentation by William Easter, CEO, Semplastics EHC LLC on using coal for value-added roofing tiles, batteries and construction materials

5. Presentation by David Greeson, Lead Project Developer-Project Tundra, Minnkota Power Cooperative, an update on Project Tundra—the world's largest carbon capture facility

6. Public Comment Period

7. Adjourn

All attendees are requested to register in advance for the meeting at: https://www.ncc.energy.gov/ncc/future-meetings

Public Participation: The meeting is open to the public. If you would like to file a written statement to be read during the virtual webcast, you may do so within three calendar days of the event. Please email your written statement to Thomas Sarkus at thomas.sarkus@netl.doe.gov by 5:00 p.m. (EST) on Wednesday, April 21, 2021. If you would like to make an oral statement during the call regarding the reports being reviewed, you must both register to attend the webcast and also contact Thomas Sarkus, (412) 386-5981 or thomas.sarkus@netl.doe.gov to state your desire to speak. You must make your request for an oral statement at least three calendar days before the meeting. Reasonable provisions will be made to include oral statements at the conclusion of the meeting. However, those who fail to register in advance may not be accommodated. Oral statements are limited to two-minutes, per organization and per person.

Minutes: A recording of the call will be posted on the website at: ncc.energy.gov/ncc/.

Signed in Washington, DC, on March 24, 2021.
LaTanya Butler,
Deputy Committee Management Officer.

[FR Doc. 2021-06497 Filed 3-29-21; 8:45 am]

BILLING CODE 6450-01-P